DEPARTMENT OF TRANSPORTATION

Federal Aviation Administration

14 CFR Part 39

[Docket No. FAA-2009-0864; Directorate Identifier 2008-NM-202-AD]

RIN 2120-AA64

Airworthiness Directives; DASSAULT AVIATION Model Falcon 10 Airplanes; Model FAN JET FALCON, FAN JET FALCON SERIES C, D, E, F, and G Airplanes; Model MYSTERE-FALCON 200 Airplanes; Model MYSTERE-FALCON 20-C5, 20-D5, 20-E5, and 20-F5 Airplanes; Model FALCON 2000 and FALCON 2000EX Airplanes; and Model MYSTERE-FALCON 50 and MYSTERE-FALCON 900 Airplanes, and FALCON 900EX Airplanes

AGENCY: Federal Aviation Administration (FAA), DOT.

ACTION: Supplemental notice of proposed rulemaking (NPRM); reopening of comment period.

SUMMARY: We are revising an earlier NPRM for the products listed above. This action revises the earlier NPRM by expanding the scope. This proposed AD results from mandatory continuing airworthiness information (MCAI) originated by an aviation authority of another country to identify and correct an unsafe condition on an aviation product. The MCAI describes the unsafe condition as:

During maintenance on one aircraft, it was discovered that the overpressure capsules were broken on both pressurization valves. Failure of the pressurization control regulating valve (overpressure capsule) will affect the aircraft's overpressure protection * * *.

* * * * *

The unsafe condition is overpressurization, which can result in injury to the occupants and possible structural failure leading to loss of control of the airplane. The proposed AD would require actions that are intended to address the unsafe condition described in the MCAI.

DATES: We must receive comments on this proposed AD by August 23, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Dassault Falcon Jet, P.O. Box 2000, South Hackensack, New Jersey 07606; telephone 201-440-6700; Internet http://www.dassaultfalcon.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2009-0864; Directorate Identifier 2008-NM-202-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for some of the specified products, which was published in the Federal Register on September 21, 2009 (74 FR 48021). That earlier NPRM proposed to require actions intended to address the unsafe condition for the products listed above.

Since that NPRM was issued, we have determined that Model FAN JET FALCON SERIES C, D, E, F, and G airplanes are also subject to the identified unsafe condition. We have revised the applicability in this supplemental NPRM to include these airplanes.

Comments

We have considered the following comments received on the earlier NPRM.

Request To Extend Compliance Time for Certain Airplanes

Dassault Aviation (Dassault) requests that we extend the compliance times in Table 1 of the earlier NPRM for Model MYSTERE-FALCON 900, FALCON 900EX, Model FALCON 2000, and FALCON 2000EX airplanes from 1,630 flight hours to 1,640 flight hours. Dassault explains that 1,640 flight hours is the correct amount of time for the 1,600-flight-hour B-check interval and +40-flight-hour tolerance indicated in the “General” section of each airplane's Chapter 5 Maintenance Schedule. Dassault notes that this extended compliance time has been approved by the European Aviation Safety Agency.

We agree, for the reasons provided by the commenter. We have revised Table 1 of this supplemental NPRM accordingly.

Request To Include Current Maintenance Procedure

Dassault requests that we identify the current maintenance procedures in the AD. Dassault explains that later versions of the maintenance procedures have been created since the earlier NPRM was issued. Dassault also suggests that we add the phrase for Table 2 of this AD, “as may be amended from time to time by Dassault Aviation.”

We partially agree. For the reasons provided by the commenter, we agree to identify the current maintenance procedures and have revised the Maintenance Procedure column of Table 2 of this supplemental NPRM accordingly. We do not agree to add the phrase, “as may be amended from time to time by Dassault Aviation,” as it contradicts FAA policy. We cannot refer to procedures or documents in our AD that do not yet exist. Operators may request approval to use a later revision of the specified maintenance procedure as an alternative method of compliance with the proposed requirements under the provisions of paragraph (h)(1) of this supplemental NPRM.

Explanation of Change Made to This Supplemental NPRM

We have revised this supplemental NPRM to identify the legal name of the manufacturer as published in the most recent type certificate data sheet for the affected airplane models.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM. As a result, we have determined that it is necessary to reopen the comment period to provide additional opportunity for the public to comment on this proposed AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Explanation of Change to Costs of Compliance

Since issuance of the earlier NPRM, we have increased the labor rate used in the Costs of Compliance from $80 per work-hour to $85 per work-hour. The Costs of Compliance information, below, reflects this increase in the specified hourly labor rate.

Costs of Compliance

Based on the service information, we estimate that this proposed AD would affect about 1,082 products of U.S. registry. We also estimate that it would take about 1 work-hour per product to comply with the basic requirements of this proposed AD. The average labor rate is $85 per work-hour. Based on these figures, we estimate the cost of the proposed AD on U.S. operators to be $91,970, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dassault Aviation: Docket No. FAA-2009-0864; Directorate Identifier 2008-NM-202-AD.

Comments Due Date

(a) We must receive comments by August 23, 2010.

Affected ADs

(b) None.

Applicability

(c) This AD applies to the airplanes identified in paragraphs (c)(1) and (c)(2) of this AD, certificated in any category.

(1) DASSAULT AVIATION Model Falcon 10 airplanes, Model FAN JET FALCON, FAN JET FALCON SERIES C, D, E, F, and G airplanes, and Model MYSTERE-FALCON 20-C5, 20-D5, 20-E5, and 20-F5 airplanes; all serial numbers, equipped with Liebherr or ABG-Semca pressurization outflow valves.

(2) DASSAULT AVIATION Model MYSTERE-FALCON 200 airplanes, Model MYSTERE-FALCON 50 and MYSTERE-FALCON 900, and FALCON 900EX airplanes, and Model FALCON 2000 and FALCON 2000EX airplanes; all serial numbers.

Subject

(d) Air Transport Association (ATA) of America Code 21: Air Conditioning.

Reason

(e) The mandatory continuing airworthiness information (MCAI) states:

“During maintenance on one aircraft, it was discovered that the overpressure capsules were broken on both pressurization valves. Failure of the pressurization control regulating valve (overpressure capsule) will affect the aircraft's overpressure protection * * *”.

* * * * *

The unsafe condition is overpressurization, which can result in injury to the occupants and possible structural failure leading to loss of control of the airplane.

Compliance

(f) You are responsible for having the actions required by this AD performed within the compliance times specified, unless the actions have already been done.

Inspection and Replacement

(g) Unless already done, do the following actions

(1) Within 6 months after the effective date of this AD, or before reaching the applicable time in the “Inspection Threshold” column specified in Table 1 of this AD, whichever occurs later, and thereafter at intervals not to exceed the applicable time in the “Inspection Interval” column specified in Table 1 of this AD: Inspect for overpressure tightness on both regulating valves using a method approved by either the Manager, International Branch, ANM-116, Transport Airplane Directorate, FAA; or the European Aviation Safety Agency (EASA) (or its delegated agent).

Table 1—Compliance Times
Affected airplanes | Inspection threshold (whichever occurs later) |  | Inspection interval
Model FAN JET FALCON, FAN JET FALCON SERIES C, D, E, F, and G airplanes, and Model MYSTERE-FALCON 20-C5, 20-D5, 20-E5, and 20-F5 airplanes equipped with Liebherr or ABG-Semca valves part number (P/N) 209xx0xxx0x; | Prior to the accumulation of 1,250 total flight hours on the regulating valve since new | Within 1,250 flight hours after the valve was cleaned in accordance with this AD | 1,250 flight hours.
Model MYSTERE-FALCON 200 airplanes;
Model Falcon 10 airplanes, equipped with Liebherr or ABG-Semca valves P/N 209xx0xxx0x
Model MYSTERE-FALCON 50 airplanes | Prior to the accumulation of 1,630 total flight hours on the regulating valve since new | Within 1,630 flight hours after the valve was cleaned in accordance with this AD | 1,630 flight hours.
Model MYSTERE-FALCON 900, FALCON 900EX (including “F900EX-EASy” and “F900DX”), Model FALCON 2000, and FALCON 2000EX (including “F2000EX-EASy” and “F2000DX”) airplanes | Prior to the accumulation of 1,640 total flight hours on the regulating valve since new | Within 1,640 flight hours after the valve was cleaned in accordance with this AD | 1,640 flight hours.

Note 1: Guidance on inspecting for overpressure tightness on both regulating valves can be found in the applicable airplane maintenance manual identified in Table 2 of this AD.

Table 2—Maintenance Manual Guidance
For affected airplanes— | See Dassault maintenance procedure— | In maintenance manual—
Model Falcon 10 airplanes, equipped with Liebherr or ABG-Semca valves P/N 209xx0xxx0x | 21-32-01, dated July 2009 | Dassault Falcon 10 Maintenance Manual.
Model FALCON 900EX (including “F900EX-EASy” and “F900DX”) airplanes | 21-314, dated September 2008 | Dassault Falcon 900EX EASy Maintenance Manual.
Model FALCON 2000 and FALCON 2000EX (including “F2000EX-EASy”) airplanes | 21-314, dated November 2008 | Dassault Falcon 2000 Maintenance Manual.
Model FALCON F2000DX airplanes | 21-314, dated November 2008 | Dassault Falcon 2000DX Maintenance Manual.
Model FAN JET FALCON, FAN JET FALCON SERIES C, D, E, F, and G airplanes, |  |
MYSTERE-FALCON 20-C5, 20-D5, 20-E5, and 20-F5 airplanes; equipped with Liebherr or ABG-Semca valves part number (P/N) 209xx0xxx0x | 21-31-10, dated October 2008 | Dassault Fan Jet Falcon Maintenance Manual.
Model MYSTERE-FALCON 50 airplanes | 21-160, dated January 2009 | Dassault Falcon 50/50EX Maintenance Manual.
Model MYSTERE-FALCON 200 airplanes | 051.0, dated December 2008 | Dassault Falcon 200 Maintenance Manual.
Model MYSTERE-FALCON 900 airplanes | 21-308, dated October 2008 | Dassault Falcon 900 Maintenance Manual.

(2) If any leak is found during any inspection required by paragraph (g)(1) of this AD, before further flight, replace the affected valve with a serviceable unit, using a method approved by either the Manager, International Branch, ANM-116, Transport Airplane Directorate, FAA; or the EASA (or its delegated agent).

Note 2: Guidance on replacing regulating valves can be found in the applicable airplane maintenance manual identified in Table 2 of this AD.

FAA AD Differences

Note 3: This AD differs from the MCAI as follows: Although paragraph (3) of the compliance section of the MCAI allows flight in accordance with the master minimum equipment list (MMEL) provisions after leaks are found, paragraph (g)(2) of this AD requires replacing affected valves before further flight.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to Attn: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2008-0072, dated April 18, 2008, for related information.

Issued in Renton, Washington, on July 16, 2010.
Ali Bahrami,
Manager, Transport Airplane Directorate, Aircraft Certification Service.

[FR Doc. 2010-18292 Filed 7-26-10; 8:45 am]

BILLING CODE 4910-13-P